DEPARTMENT OF TRANSPORTATION

Federal Aviation Administration

14 CFR Part 39

[Docket No. FAA-2006-25581; Directorate Identifier 2006-CE-41-AD]

RIN 2120-AA64

Airworthiness Directives; EADS SOCATA Model TBM 700 Airplanes

AGENCY: Federal Aviation Administration (FAA), Department of Transportation (DOT).

ACTION: Supplemental notice of proposed rulemaking (NPRM); reopening of the comment period.

SUMMARY: We are revising an earlier NPRM for the products listed above. This proposed AD results from mandatory continuing airworthiness information (MCAI) originated by an aviation authority of another country to identify and correct an unsafe condition on an aviation product. The MCAI describes the unsafe condition as:

* * * a Nose Landing Gear (NLG) hinge pin rupture that causes an uncommanded NLG retraction.

Investigations identified the unsafe condition resulting from an incomplete thermal treatment done on three hinge pin batches lowering their mechanical properties with a high risk of deformation under service loads.

The proposed AD would require actions that are intended to address the unsafe condition described in the MCAI.

DATES: We must receive comments on this proposed AD by March 23, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Albert J. Mercado, Aerospace Engineer, FAA, Small Airplane Directorate, 901 Locust, Room 301, Kansas City, Missouri, 64106; telephone: (816) 329-4119; fax: (816) 329-4090.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2006-25581; Directorate Identifier 2006-CE-41-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

We proposed to amend 14 CFR part 39 with an earlier NPRM for the specified products, which was published in the Federal Register on September 15, 2006 (71 FR 54446). That earlier NPRM proposed to require actions intended to address the unsafe condition for the products listed above.

Since that NPRM was issued, EADS SOCATA amended TBM Aircraft Mandatory Alert Service Bulletin SB 70-147, dated July 2006, to extend the landing gear applicability to Model TBM 700 aircraft equipped with nose landing gear (part number (P/N) 21130-001-02) with serial numbers (S/Ns) B155 through B173 and EUR174 through EUR240.

The European Aviation Safety Agency (EASA), which is the Technical Agent for the Member States of the European Community, has issued Emergency AD No. 2006-0271-E, Issue date: September 4, 2006 (referred to after this as “the MCAI”), to correct an unsafe condition for the specified products. The MCAI states:

* * * a Nose Landing Gear (NLG) hinge pin rupture that causes an uncommanded NLG retraction.

Investigations identified the unsafe condition resulting from an incomplete thermal treatment done on three hinge pin batches lowering their mechanical properties with a high risk of deformation under service loads.

The MCAI requires:

* * * first to identify the concerned NLG and second to detect the defective hinge pins installed on aircraft or those held as spare and replace them with new ones.

This AD also requires the introduction of interim operational instructions in order to diminish as many as possible stresses on the NLG before the embodiment of the corrective actions.

You may obtain further information by examining the MCAI in the AD docket.

Relevant Service Information

EADS SOCATA has issued EADS SOCATA TBM Aircraft Mandatory Alert Service Bulletin SB 70-147, Amendment 1, dated September 2006. The actions described in this service information are intended to correct the unsafe condition identified in the MCAI.

Comments

We have considered the following comments received on the earlier NPRM.

The Modification and Replacement Parts Association (MARPA) provides comments to the MCAI AD process pertaining to how the FAA addresses publishing manufacturer service information as part of the proposed AD action. The commenter states that the rule, as proposed, attempts to require compliance with a public law by reference to a private writing (as referenced in paragraph (e) of the proposed AD). The commenter would like the FAA to incorporate by reference (IBR) the EADS SOCATA Alert service bulletin.

We agree with the commenter. However, we do not IBR any document in a proposed AD action, instead we IBR the document in the final rule. Since we are considering issuing the proposal as a final rule AD action, EADS SOCATA TBM Aircraft Mandatory Alert Service Bulletin SB 70-147, Amendment 1, dated September 2006, may be incorporated by reference if and when this proposed rule is issued as a final rule.

MARPA requests IBR documents be made available to the public by publication in the Federal Register or in the Docket Management System (DMS).

We are currently reviewing issues surrounding the posting of service bulletins in the Department of Transportation's DMS as part of the AD docket. Once we have thoroughly examined all aspects of this issue and have made a final determination, we will consider whether our current practice needs to be revised.

EADS SOCATA provides comments pertaining to TBM Aircraft Mandatory Alert Service Bulletin SB 70-147, dated July 2006, referenced in the NPRM.

The NPRM proposes an AD associated with EADS SOCATA TBM Aircraft Mandatory Alert Service Bulletin SB 70-147, dated July 2006. In September 2006, EADS SOCATA issued an amendment to the service bulletin. This amendment extends the landing gear applicability to Model TBM 700 aircraft equipped with nose landing gear P/N 21130-001-02 with S/Ns B155 through B173 and EUR174 through EUR240.

EADS SOCATA specifies in TBM Aircraft Mandatory Alert Service Bulletin SB 70-147, dated July 2006, that the check of the nose landing gear S/N and the operational procedure must be done before the next flight. The batch number check and pin check must be done after a flight at an approved maintenance center. EASA canceled Emergency AD 2006-0226-E and issued Emergency AD No. 2006-0271-E, Issue date: September 4, 2006. The NPRM also references this EASA AD.

The FAA acknowledges the requirements in the service bulletin and latest EASA AD. However, the pin batch number check and application of the operational procedure are both specified as prior to further flight actions in the service bulletin. The FAA determined that this action is not an urgent safety of flight condition. We established the compliance time at 30 days to do both the pin batch number check and replacement of any affected parts. The operational procedure was only temporary until the replacement was done. Therefore, we are not requiring the operational procedure as part of the FAA AD.

The only changes we are making to the proposed AD are (1) referencing the revised service bulletin to read EADS SOCATA Mandatory Service Bulletin SB 70-147, Amendment 1, dated September 2006; and (2) extending the landing gear applicability to Model TBM 700 aircraft equipped with nose landing gear (part number (P/N) 21130-001-02) with serial numbers (S/Ns) B155 through B173 and EUR174 through EUR240.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Certain changes described above expand the scope of the earlier NPRM. As a result, we have determined that it is necessary to reopen the comment period to provide additional opportunity for the public to comment on the proposed AD.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 256 products of U.S. registry. We also estimate that it would take about 2 work-hours per product to comply with the basic requirements of this proposed AD. The average labor rate is $80 per work-hour. Required parts would cost about $1,025 per product. Where the service information lists required parts costs that are covered under warranty, we have assumed that there will be no charge for these costs. As we do not control warranty coverage for affected parties, some parties may incur costs higher than estimated here.

Based on these figures, we estimate the cost of the proposed AD on U.S. operators to be $303,360, or $1,185 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the National Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EADS Socata: Docket No. FAA-2006-25581; Directorate Identifier 2006-CE-41-AD.

Comments Due Date

(a) We must receive comments by March 23, 2007.

Affected ADs

(b) None.

Applicability

(c) This AD applies to all Model TBM 700 airplanes fitted with nose landing gear (NLG) part number (P/N) 21130-001-02 with serial numbers (S/N) B155 through B173 and S/N EUR 174 through EUR 240, that are certificated in any U.S. category.

Subject

(d) Air Transport Association of America (ATA) Code 32: Landing Gear.

Reason

(e) The mandatory continuing airworthiness information (MCAI) describes the unsafe condition as follows:

* * * a Nose Landing Gear (NLG) hinge pin rupture that causes an uncommanded NLG retraction.

Investigations identified the unsafe condition resulting from an incomplete thermal treatment done on three hinge pin batches lowering their mechanical properties with a high risk of deformation under service loads.

Actions and Compliance

(f) Within 30 days after the effective date of this AD, unless already done, do the following:

(1) Identify the NLG hinge pin batch number as instructed in paragraph B of the accomplishment instructions of EADS SOCATA TBM Aircraft Mandatory Alert Service Bulletin SB 70-147, Amendment 1, dated September 2006.

(i) For airplanes with the correct pin batch numbers, no further action is required. Return the airplane to service as instructed in EADS SOCATA TBM Aircraft Mandatory Alert Service Bulletin SB 70-147, Amendment 1, dated September 2006.

(ii) For airplanes with pins from the defective pin batch numbers or for which the batch number cannot be read, do all the actions as instructed in paragraphs B(5), C, and D of the accomplishment instructions of EADS SOCATA TBM Aircraft Mandatory Alert Service Bulletin SB 70-147, Amendment 1, dated September 2006.

(2) As of the effective date of this AD, no person shall install on any EADS SOCATA Model TBM 700 airplane an NLG actuator hinge pin coming from the three defective batches identified as EUR BC 21344-000-01, EUR BD 21344-000-01, and EUR BF 21344-000-01 on NLG part number 21130-001-02.

FAA AD Differences

Note: This AD differs from the MCAI and/or service information as follows: The service bulletin and MCAI require interim operational instructions until the corrective actions are done. This AD requires the corrective action at the same time as the pin batch number check.

Other FAA AD Provisions

(g) The following provisions also apply to this AD:

(1) Alternative Methods of Compliance (AMOCs): The Manager, Standards Staff, FAA, ATTN: Albert J. Mercado, Aerospace Engineer, FAA, Small Airplane Directorate, 901 Locust, Room 301, Kansas City, Missouri, 64106; telephone: (816) 329-4119; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(h) This AD is related to European Aviation Safety Agency Emergency AD No. 2006-0271-E, Issue date: September 4, 2006, which references EADS SOCATA TBM Aircraft Mandatory Alert Service Bulletin SB 70-147, Amendment 1, dated September 2006.

Issued in Kansas City, Missouri, on February 13, 2007.
James E. Jackson,
Acting Manager, Small Airplane Directorate, Aircraft Certification Service.

[FR Doc. E7-2888 Filed 2-20-07; 8:45 am]

BILLING CODE 4910-13-P